INTERNATIONAL TRADE COMMISSION

[Investigation Nos. 701-TA-566 and 731-TA-1342 (Preliminary)]

Softwood Lumber Products From Canada; Determinations

On the basis of the record ¹ developed in the subject investigations, the United States International Trade Commission (“Commission”) determines, pursuant to the Tariff Act of 1930 (“the Act”), that there is a reasonable indication that an industry in the United States is materially injured by reason of imports of softwood lumber products from Canada, provided for in subheadings 4407.10.01, 4409.10.05, 4409.10.10, 4409.10.20, 4409.10.90, 4418.90.25, and may also be classified in subheadings 4415.20.40, 4415.20.80, 4418.90.46, 4421.90.70, 4421.90.94, and 4421.90.97 of the Harmonized Tariff Schedule of the United States, that are allegedly subsidized and sold in the United States at less than fair value (“LTFV”).²

¹ The record is defined in sec. 207.2(f) of the Commission's Rules of Practice and Procedure (19 CFR 207.2(f)).

² Commissioner Pinkert not participating.

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (“Commerce”) of affirmative preliminary determinations in the investigations under sections 703(b) or 733(b) of the Act, or, if the preliminary determinations are negative, upon notice of affirmative final determinations in those investigations under sections 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On November 25, 2016, the Committee Overseeing Action for Lumber International Trade Investigations or Negotiations (the “Coalition”) ³ filed a petition with the Commission and Commerce, alleging that an industry in the United States is materially injured or threatened with material injury by reason of LTFV and subsidized imports of softwood lumber products from Canada and LTFV imports of softwood lumber products from Canada. Accordingly, effective November 25, 2016, the Commission, pursuant to sections 703(a) and 733(a) of the Act (19 U.S.C. 1671b(a) and 1673b(a)), instituted countervailing duty investigation No. 701-TA-566 and antidumping duty investigation No. 731-TA-1342 (Preliminary).

³ The Coalition is an ad hoc association whose members are: U.S. Lumber Coalition, Inc., Collum's Lumber Products, L.L.C., Hankins, Inc., Potlach Corp., Rex Lumber Company, Seneca Sawmill Company, Sierra Pacific Industries, Stimson Lumber Company, Swanson Group, Weyerhaeuser Company, Carpenters Industrial Council, Giustina Land and Timber Company, Sullivan Forestry Consultants, Inc.. The Coalition is “an association, a majority of whose members is composed of interested parties” described in Section 771(9)(C) of the Act, 19 U.S.C. 1677(9)(C).

Notice of the institution of the Commission's investigations and of a public conference to be held in connection therewith was given by posting copies of the notice in the Office of the Secretary, U.S. International Trade Commission, Washington, DC, and by publishing the notice in the Federal Register of December 2, 2016 (81 FR 87069). The conference was held in Washington, DC, on December 16, 2016, and all persons who requested the opportunity were permitted to appear in person or by counsel.

The Commission made these determinations pursuant to sections 703(a) and 733(a) of the Act (19 U.S.C. 1671b(a) and 1673b(a)). It completed and filed its determinations in these investigations on January 9, 2017. The views of the Commission are contained in USITC Publication 4663 (January 2017), entitled Softwood Lumber Products from Canada: Investigation Nos. 701-TA-566 and 731-TA-1342 (Preliminary).

By order of the Commission.
Issued: January 9, 2017.
William R. Bishop,
Supervisory Hearings and Information Officer.

[FR Doc. 2017-00639 Filed 1-12-17; 8:45 am]

BILLING CODE 7020-02-P